ENVIRONMENTAL PROTECTION AGENCY

40 CFR Parts 60 and 63

[EPA-HQ-OAR-2008-0708, FRL-9756-4]

RIN 2060-AQ58

National Emission Standards for Hazardous Air Pollutants for Reciprocating Internal Combustion Engines; New Source Performance Standards for Stationary Internal Combustion Engines

Correction

In rule document 2013-01288, appearing on pages 6674-6724 in the issue of Wednesday, January 30, 2013, make the following corrections:

§ 63.6655 [Corrected]

1. On page 6708, the heading in Table 2c to Subpart ZZZZ of Part 63 is corrected read as follows:

Table 2c to Subpart ZZZZ of Part 63. Requirements for Existing Compression Ignition Stationary RICE Located at a Major Source of HAP Emissions and Existing Spark Ignition Stationary RICE ≤500 HP Located at a Major Source of HAP Emissions

2. On page 6708, in the first column of Table 2c to Subpart ZZZZ of Part 63, the entry reading “4. Non-Emergency, non-black start CI stationary RICE 300>HP≤500.” is corrected to read “4. Non-Emergency, non-black start CI stationary RICE 300<HP≤500.”

3. On page 6709, the heading in Table 2c to Subpart ZZZZ of Part 63 is corrected read as follows:

Table 2c to Subpart ZZZZ of Part 63. Requirements for Existing Compression Ignition Stationary RICE Located at a Major Source of HAP Emissions and Existing Spark Ignition Stationary RICE ≤500 HP Located at a Major Source of HAP Emissions—Continued

[FR Doc. C1-2013-01288 Filed 3-5-13; 8:45 am]

BILLING CODE 1505-01-D